DEPARTMENT OF TRANSPORTATION

Federal Aviation Administration

14 CFR Parts 1, 21, 43, 45, 61, 65, and 91

[Docket No. FAA-2001-11133; Notice No. 02-07]

RIN 2120-AH19

Certification of Aircraft and Airmen for the Operation of Light-Sport Aircraft

AGENCY: Federal Aviation Administration (FAA), DOT.

ACTION: Notice of on-line public forum.

SUMMARY: On February 5, 2002, the FAA published a Notice of Proposed Rulemaking (NPRM), which proposes requirements for the certification, operation, and maintenance of light-sport aircraft (67 FR 5368, notice No. 02-03). The comment period closes on May 6, 2002. To supplement the traditional comment period, we are announcing an on-line public forum, allowing you to answer specific questions we will ask on the Internet. We are offering the forum to assist us in providing a clear and comprehensive final rule. You can continue to submit comments to the docket during the public forum, as outlined below and in the NPRM.

DATES: You may access the on-line public forum beginning April 1, 2002, at 9 a.m. DST until April 19, 2001, at 4:30 p.m. DST.

ADDRESSES: You may access the on-line public forum at www.rulemakingpublicforum.com.

If you are unable to participate in the on-line public forum and wish to submit written comments, address your comments to the Docket Management System, U.S. Department of Transportation, Room Plaza 401, 400 Seventh St., SW., Washington, DC 20590-0001. You must identify the docket number FAA-2001-11133 at the beginning of your comments, and you should submit two copies of your comments.

You may also submit comments through the Internet to http://dms/dot.gov. You may review the public docket containing comments to these proposed regulations in person in the Dockets Office between 9 a.m. and 5 p.m., Monday through Friday, except Federal holidays. The Dockets Office is on the plaza level at the Department of Transportation building at the address above. Also, you may review public dockets on the Internet at http://dms.dot.gov.

FOR FURTHER INFORMATION CONTACT: Susan Gardner at 202/267-5008 for questions regarding airman certification and operational issues (14 CFR parts 1, 43, 45, 61, 65, and 91). For questions regarding aircraft certification (14 CFR part 21), call Steve Flanagan at 202/267-5008. Due to the large volume of questions we expect from this proposal, please leave a message and we will answer your questions within 3 days. Please use this phone number for questions only.

SUPPLEMENTARY INFORMATION:

On-Line Public Forum

We are soliciting on-line discussion and written comments on the questions below. You will be able to read the questions on-line and submit your answers and comments electronically. We will monitor your responses throughout the 3-week forum and may ask you clarifying questions. While we have selected topics that we are particularly interested in (especially related to assumptions we made to develop the proposal), we still welcome all of your comments and suggestions. We will not make any commitments or draw any conclusions while the docket is open for public comment.

On-Line Questions

The questions that will appear on the Internet for the on-line public forum are as follows:

(1) In general, do you agree or disagree with the FAA's proposal?

(2) Please comment on the FAA's assessment of potential safety benefits that the proposed rule would generate, considering the number of light aircraft accidents contained in the NTSB's historical record for primarily U.S.-registered aircraft. This can be found in Section IX—Analysis of Benefits. Do you believe that most accidents over the past 10 years involving non-U.S.-registered light-sport aircraft were reported to the NTSB?

(3) The FAA is proposing to require sport pilot certificate applicants to hold an airman medical certificate or to possess a valid and current driver's license. You can find the reasons for this proposal in Section VI—Section By Section Analysis of the Proposal under the heading “Part 61 SFAR No. 89,” proposed section 15. Do you agree with this proposed requirement? Why? Why not?

(4) The FAA is proposing a make and model endorsement for a pilot exercising sport pilot privileges. The FAA believes that this requirement to acquire particular aircraft familiarization is appropriate for aircraft that are generally simple to operate, but that are not known to be designed to any widely accepted design standard. Do you believe this is appropriate? Why? Why not?

(5) The FAA is proposing that the three exemptions issued for training under 14 CFR part 103 be rescinded 3 years after the effective date of the final rule. The FAA believes that this training (for compensation or hire) should be conducted with aircraft meeting the requirements of a special, light-sport category aircraft airworthiness certificate. Also, the FAA believes 3 years is sufficient for instructors conducting that training to obtain a flight instructor certificate with a sport pilot rating. Do you believe that rescinding the exemptions after 3 years is appropriate? If not, why not?

(6) The FAA is proposing to require 80 hours of training for a repairman certificate for maintaining and inspecting special light-sport aircraft used for rental and training. Do you think 80 hours of training is appropriate for this purpose?

(7) In the proposed definition of “light-sport aircraft,” the FAA limited the speed to 115 knots in straight and level flight at maximum continuous engine power (VH). The FAA proposed this because VH is a measure of the speed and power (or kinetic energy) of the aircraft, and it is relatively easy to measure. Do you believe the FAA should consider a different method of limiting the kinetic energy of a light-sport aircraft? Why or Why not? What alternative would you propose?

(8) The FAA excluded gyroplanes from being eligible for a “special, light-sport category aircraft airworthiness certificate” because of the complexity inherent in the design of rotary-winged aircraft. In addition, experimental gyroplanes lack standardized, recognized design, performance and handling criteria. Do you believe the FAA should reconsider including gyroplanes for that certificate? If so, please include any data to support your reasons.

(9) The FAA proposes that the ready-to-fly and kits for light-sport aircraft comply with an industry-developed consensus airworthiness standard in lieu of incorporating these standards into the regulations. This permits the light-sport aircraft industry to demonstrate that it has reached a significant technical level of maturity by developing and publishing its own aircraft design and production standards. By participating in the industry sponsored consensus standards group, the FAA supports developing and updating an effective set of standards with minimum impact on FAA resources. Do you believe the FAA should incorporate the standards into 14 CFR? Why or Why not? What alternative would you propose?

(10) The FAA is proposing that the manufacturer of ready-to-fly or kit light-sport aircraft comply with the consensus standard and attest to that fact on a manufacturer's statement of compliance. The proposal does not limit a manufacturer's ability to have an independent third-party organization audit this compliance. Do you believe the FAA should be making the findings of compliance? Why or Why not? What alternative would you propose?

(11) In the proposal, the FAA has stated that, for ready-to-fly or kit light-sport aircraft where there is a safety-of-flight issue that is not being remedied by the manufacturer (or their successor), certificate action could be taken against the individual aircraft owner (i.e. the aircraft could lose it's airworthiness certificate). The FAA would have to do this because of its responsibility to the public to maintain safety in air commerce. Do you agree with this approach of holding the individual aircraft owner responsible for the airworthiness of the aircraft? Why or Why not? What alternative would you propose?

(12) While the FAA made an assessment of the potential cost of compliance of the proposed rule, the FAA requests comments on the validity of its assumptions. These can be found in two sections of the proposed rule: Section VII—Paperwork Reduction Act; and Section IX—Regulatory Evaluation Summary. Do you believe the FAA made accurate estimates of the number of existing and new sport pilots impacted, the number of sport pilots who would become a Repairman with a maintenance rating for commercial purposes, the number of delivered new light-sport aircraft (by category, such as fixed-wing, powered parachutes, trikes, etc.), and the number of flight instructors with a sport pilot rating, over the next 10 years? Please provide data in support of your comments.

(13) Is the FAA's assumption of the average price of light-sport aircraft potentially impacted by the proposed rule accurate?

(14) In response to the June 1, 1998, Presidential memorandum regarding the use of plain language, the FAA re-examined the writing style currently used in the development of regulations. The memorandum requires Federal agencies to communicate clearly with the public. The FAA drafted this proposal using plain language writing techniques. Is the style of this document clear and did you find it easy to understand?

(15) Do you have any other issues that you think should be addressed related to Light-Sport Aircraft policy?

Issued in Washington, DC, on March 14, 2002.
Anthony F. Fazio,
Director, Office of Rulemaking.

[FR Doc. 02-6643 Filed 3-15-02; 10:40 am]

BILLING CODE 4910-13-P